CORPORATION FOR NATIONAL AND COMMUNITY SERVICE

Information Collection; Submission for OMB Review; Comment Request

AGENCY: Corporation for National and Community Service.

ACTION: Notice.

SUMMARY: The Corporation for National and Community Service (hereinafter the “Corporation”) has submitted two public information collection requests (ICR) to the Office of Management and Budget (OMB) for review and approval in accordance with the Paperwork Reduction Act of 1995, Public Law 104-13, (44 U.S.C. chapter 35). Copies of these ICRs, with applicable supporting documentation, may be obtained by calling the Corporation for National and Community Service, Mr. Ruben Wiley, at (202) 606-5000, extension 224, (rwiley@cns.gov); (TTY/TDD) at (202) 606-5256 between the hours of 9 a.m. and 4 p.m. eastern standard time, Monday through Friday.

Comments may be submitted, identified by the title of each the information collection activity, by any of the the following two methods within 30 days from the date of publication in this Federal Register:

(1) By fax to: (202) 395-6974, Attention: Ms. Katherine Astrich, OMB Desk Officer for the Corporation for National and Community Service; and

(2) Electronically by e-mail to: Katherine_Astrich@omb.eop.gov.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description: The Corporation is proposing to renew, with changes, two currently approved information collection activities:

• Corporation for National Service Enrollment Form (OMB #3045-0006), and

• Corporation for National Service End of Term/Exit Form (OMB # 3045-0015).

I. Background

The Corporation supports programs that provide opportunities for individuals who want to become involved in national service. The service opportunities cover a wide range of activities over varying periods of time. Upon successfully completing an agreed-upon term of service in an AmeriCorps program, an AmeriCorps participant receives an “education award”. This education award can be used to make a payment towards a qualified student loan or pay for educational expenses at qualified post-secondary institutions and approved school-to-work opportunities programs. This award is an amount of money set aside in the AmeriCorps member's name in the National Service Trust Fund. Members have seven years in which to draw against any unused balance.

The National Service Trust is the office within the Corporation that administers the education award program. This involves:

• Tracking the service for all AmeriCorps members;

• Ensuring that the requirements of the Corporation's enabling legislation are met, vis-a-vis the education award;

• Processing school and loan payments that the members authorize; and

• Processing payments for the interest that accrues on certain qualified student loans during the member's service period.

II. Current Action

The Corporation's Enrollment Form serves two purposes essential to the functioning of the AmeriCorps program. It is the means by which programs certify that an individual is eligible to serve in an AmeriCorps program and the date service has begun. Second, it provides the Corporation, Grantees, program managers, and Congress with demographic data on AmeriCorps members.

The Enrollment Form is the beginning-of-service counterpart to the Corporation's End of Term/Exit Form, which concludes the tracking of members at the end of their term of service.

Submission of the End of Term/Exit form provides legal certification for the disbursement of an education award to an AmeriCorps member. It is the document by which an authorized program official at an AmeriCorps program site indicates whether an AmeriCorps member is eligible for an education award.

In 1999, the Corporation began using an electronic system to both enroll and exit AmeriCorps members. Local projects can enter into a database information about their members' enrollment and completion of service. This data is transferred to the Trust periodically where it becomes the official record.

A. ENROLLMENT FORM—(OMB #3045-0006)

Currently, AmeriCorps members use a form entitled Corporation for National Service Enrollment Form to enroll national service participants in the AmeriCorps program. The form requests program-related as well as demographic information. The program information includes the participant's start date, the code number of the program, the expected completion date, and whether the term of service is full or part time. This is the Corporation's sole source of data for individual members. The demographic information includes background information on the AmeriCorps member (including gender, marital status, education level, and reasons for joining).

The program information is used to:

• Make liability projections for the Trust Fund;

• Verify national service participation when requested by a lender who holds an AmeriCorps member's student loan (members are eligible to have the repayment of certain student loans postponed if they are participating in national service),

• Plan and monitor programs (review recruiting efforts, identify programs with excessive early termination rates, establish and reconcile program's budgets)

The demographic information is used for recruiting purposes and to provide the Corporation, program managers, and the Congress with demographic data on AmeriCorps members.

Type of Review: Renewal.

Agency: Corporation for National and Community Service.

Title: Corporation for National Service Enrollment Form.

OMB Number: 3045-0006.

Agency Number: None.

Affected Public: Individuals about to participate in an AmeriCorps program.

Total Respondents: 50,000 annually.

Frequency: Once per service period (average of once per year).

Average Time Per Response: Total of 7 minutes (4 minutes for the AmeriCorps members, and 3 minutes for the program staff).

Estimated Total Burden Hours: 5,833 hours.

Total Burden Cost (capital/startup): None.

Total Burden Cost (operating/maintenance): None.

B. END OF TERM/EXIT FORM—(3045-0015)

The Corporation's End of Term/Exit form is the means by which AmeriCorps programs certify that a member has, or has not, successfully satisfied conditions which must be met in order to receive an education award. When an AmeriCorps member successfully completes a term of national service, a designated program official certifies that the service was completed and the individual is eligible for an education award. The End of Term/Exit form is the document upon which this certification is recorded.

Additional information requested on the form includes the member's service completion date, the current address where the education award documentation should be mailed, and two questions regarding the member's desire for post service information.

Type of Review: Renewal.

Agency: Corporation for National and Community Service.

Title: Corporation for National Service End of Term/Exit Form.

OMB Number: None.

Agency Number: None.

Affected Public: AmeriCorps members who have ended their term of national service.

Total Respondents: 50,000 annually.

Frequency: Once per term of service (average of once per year).

Average Time Per Response: 7 minutes, total (4 minutes for the AmeriCorps members to complete the form and, 3 minutes for the program staff)

Estimated Total Burden Hours: 5,833 hours.

Total Burden Cost (capital/startup): None.

Total Burden Cost (operating/maintenance): None.

Dated: February 26, 2004.
Ruben Wiley,
Manager, National Service Trust.

[FR Doc. 04-4755 Filed 3-2-04; 8:45 am]

BILLING CODE 6050-$$-P